DEPARTMENT OF HEALTH AND HUMAN SERVICES

National Institutes of Health

Notice of Listing of Members of the National Institutes of Health's Senior Executive Service Performance Review Board (PRB)

The National Institutes of Health (NIH) announces the persons who will serve on the National Institutes of Health's Senior Executive Service Performance Review Board. This action is being taken in accordance with Title 5, U.S.C., Section 4314(c)(4), which requires that members of performance review boards be appointed in a manner to ensure consistency, stability, and objectivity in performance appraisals, and requires that notice of the appointment of an individual to serve as a member be published in the Federal Register.

The following persons will serve on the NIH Performance Review Board, which oversees the evaluation of performance appraisals of NIH Senior Executive Service (SES) members:

Mr. Charles Leasure, Jr. (Chair)

Dr. Robert Balaban

Dr. Milton Corn

Dr. Thomas Gallagher

Dr. Michael Gottesman

Dr. Sharon Hrynkow

Dr. Raynard Kington

Dr. Richard Nakamura

Dr. Audrey Penn

Dr. Belinda Seto

Mr. Marc Smolonsky

Mr. Kennety Stith

Mr. Frederick Walker

For further information about the NIH Performance Review Board, contact the Office of Human Resources, Division of Workforce Management, Senior and Scientific Employment Branch, National Institutes of Health, Building 31/B3C08, Bethesda, Maryland 20892, telephone (301) 402-8145 (not a toll-free number).

Dated: October 3, 2003.
Raynard S. Kington,
Deputy Director, NIH.

[FR Doc. 03-25777 Filed 10-9-03; 8:45 am]

BILLING CODE 4140-09-M